DEPARTMENT OF COMMERCE

International Trade Administration

[A-580-839]

Certain Polyester Staple Fiber from Korea: Final Results of Antidumping Duty Administrative Review

AGENCY: Import Administration, International Trade Administration, Department of Commerce.

ACTION: Notice of Final Results of 2001-2002 Administrative Review.

SUMMARY: On June 9, 2003, the Department of Commerce published the preliminary results of the administrative review of the antidumping duty order on certain polyester staple fiber from Korea. The period of review is May 1, 2001, through April 30, 2002. We gave interested parties an opportunity to comment on the preliminary results. Based on our analysis of the comments received and an examination of our calculations, we have made certain changes for the final results. The final weighted-average dumping margins for the two manufacturer/exporters are listed below in the “Final Results of the Review” section of this notice.

EFFECTIVE DATE: October 15, 2003.

FOR FURTHER INFORMATION CONTACT: Andrew McAllister or Judith Rudman, Import Administration, International Trade Administration, U.S. Department of Commerce, 14th Street and Constitution Avenue, NW, Washington, DC 20230; telephone: (202) 482-1174, or (202) 482-0192, respectively.

SUPPLEMENTARY INFORMATION:

Background

Since the publication of the preliminary results in this review (see Certain Polyester Staple Fiber from Korea; Preliminary Results of Antidumping Duty Administrative Review and Partial Rescission of Review, 68 FR 34378 (June 9, 2003) (“Preliminary Results”)), the following events have occurred:

The Department reported its findings from Huvis Corporation's (“Huvis”) cost verification on July 2, 2003. See Memorandum from Robert Greger and Mark Todd to Neal Halper, Director, Office of Accounting, “Verification Report on the Cost of Production and Constructed Value Data Submitted by Huvis Corporation,” dated July 2, 2003 (“Huvis Cost Verification Report”), which is on file in the Department's Central Records Unit (“CRU”) in room B-099 of the main Department building.

We invited parties to comment on the preliminary results of the review. On July 22, 2003, E.I. DuPont de Nemours, Inc., Arteva Specialties S.a.r.l., d/b/a KoSa, Wellman, Inc., and Intercontinental Polymers, Inc. (collectively “the petitioners”), and the respondents East Young Co., Ltd. (“East Young”)/Stein Fibers, Ltd. (“Stein Fibers”) and Huvis filed case briefs. On July 28, 2003, the above-mentioned parties, with the exception of East Young/Stein Fibers, filed rebuttal briefs.

Scope of the Order

For the purposes of this order, the product covered is certain polyester staple fiber (“PSF”). PSF is defined as synthetic staple fibers, not carded, combed or otherwise processed for spinning, of polyesters measuring 3.3 decitex (3 denier, inclusive) or more in diameter. This merchandise is cut to lengths varying from one inch (25 mm) to five inches (127 mm). The merchandise subject to this order may be coated, usually with a silicon or other finish, or not coated. PSF is generally used as stuffing in sleeping bags, mattresses, ski jackets, comforters, cushions, pillows, and furniture. Merchandise of less than 3.3 decitex (less than 3 denier) currently classifiable under the Harmonized Tariff Schedule of the United States (“HTSUS”) at subheading 5503.20.00.20 is specifically excluded from this order. Also specifically excluded from this order are polyester staple fibers of 10 to 18 denier that are cut to lengths of 6 to 8 inches (fibers used in the manufacture of carpeting). In addition, low-melt PSF is excluded from this order. Low-melt PSF is defined as a bi-component fiber with an outer sheath that melts at a significantly lower temperature than its inner core.

The merchandise subject to this order is currently classifiable in the HTSUS at subheadings 5503.20.00.45 and 5503.20.00.65. Although the HTSUS subheadings are provided for convenience and customs purposes, the written description of the merchandise under order is dispositive.

Period of Review

The period of review (“POR”) is May 1, 2001, through April 30, 2002.

Verification

As stated in the Preliminary Results and provided in section 782(i) of the Tariff Act of 1930, as amended (“the Act”), we verified information provided by East Young and Huvis using standard verification procedures, including on-site inspection of the manufacturers' facilities, examination of relevant sales, cost and financial records, and selection of original documentation containing relevant information.

Analysis of Comments Received

All issues raised in the case and rebuttal briefs by parties to this review are addressed in the “Issues and Decision Memorandum” from Jeffrey May, Deputy Assistant Secretary, Import Administration to James J. Jochum, Assistant Secretary, Import Administration, dated October 6, 2003 (“Decision Memorandum”), which is hereby adopted by this notice. Attached to this notice as an appendix is a list of the issues which parties have raised and to which we have responded in the Decision Memorandum. Parties can find a complete discussion of all issues raised in this review and the corresponding recommendations in this public memorandum which is on file in the Department's CRU. In addition, a complete version of the Decision Memorandum can be accessed directly on the Web at http://ia.ita.doc.gov/frn/frnhome.htm. The paper copy and electronic version of the Decision Memorandum are identical in content.

Fair Value Comparisons

To determine whether sales of PSF from Korea to the United States were made at less than normal value, we compared export price (“EP”) to normal value (“NV”). Our calculations followed the methodologies described in the Preliminary Results, except as noted below and in the final results calculation memoranda cited below, which are on file in the CRU.

Export Price

We used EP as defined in section 772(a) of the Act. We calculated EP based on the same methodologies described in the Preliminary Results.

Normal Value

We used the same methodology as that described in the Preliminary Results to determine the cost of production ("COP”), whether comparison market sales were at prices below the COP, and the NV.

Changes from the Preliminary Results

For East Young, in our calculation of NV based on constructed value, we have adjusted the general and administrative expense ratio. See Memorandum from Team to File, “Final Results Calculation Memorandum for East Young Co., Ltd.,” dated October 6, 2003 (“East Young Final Calcs”); see also Decision Memorandum, at Comment 10.

With respect to Huvis, we have adjusted its cost of manufacturing to account for purchases of certain materials from affiliated parties at non-arm's length prices. Also, we have used the revised selling, general and administrative expense ratio submitted by Huvis during the cost verification for its affiliated supplier. We have further adjusted the submitted ratio for the final results. See Memorandum from Robert Greger to Neal Halper, “Cost of Production and Constructed Value Calculation Adjustments for the Final Results,” dated October 6, 2003.

Final Results of the Review

We determine that the following percentage margins exist for the period May 1, 2001, through April 30, 2002:

Exporter/manufacturer | Weighted-average margin percentage
East Young Co., Ltd. | 4.07
Huvis Corporation | 0.21 (de minimis)

Assessment Rates

The Department shall determine, and the United States Bureau of Customs and Border Protection (“BCBP”) shall assess, antidumping duties on all appropriate entries. In accordance with 19 CFR 351.212(b)(1), we have calculated exporter/importer (or customer)-specific assessment rates for merchandise subject to this review. To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer). Where an importer (or customer)-specific ad valorem rate was greater than de minimis, we calculated a per-unit assessment rate by aggregating the dumping margins calculated for all U.S. sales to that importer (or customer) and dividing this amount by the total quantity sold to that importer (or customer).

The Department will issue appropriate assessment instructions directly to the BCBP within 15 days of publication of these final results of review.

Cash Deposit Rates

The following antidumping duty deposits will be required on all shipments of PSF from Korea entered, or withdrawn from warehouse, for consumption, effective on or after the publication date of the final results of this administrative review, as provided by section 751(a)(1) of the Act: (1) the cash deposit rates for the reviewed companies will be the rates listed above (except no cash deposit will be required if a company's weighted-average margin is de minimis, i.e., less than 0.5 percent); (2) for previously reviewed or investigated companies not listed above, the cash deposit rate will continue to be the company-specific rate published for the most recent period; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 11.35 percent, the “all others” rate established in Notice of Amended Final Determination of Sales at Less Than Fair Value: Certain Polyester Staple Fiber from the Republic of Korea, and Antidumping Duty Orders: Certain Polyester Staple Fiber from the Republic of Korea and Taiwan, 65 FR 33807 (May 25, 2000).

These cash deposit requirements shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results and this notice in accordance with sections section 751(a)(1) and 777(i)(1) of the Act.

Dated: October 6, 2003.
James J. Jochum,
Assistant Secretary for Import Administration.

Appendix I

List of Comments in the Issues and Decision Memorandum

Comment 1: Exclusion of Certain Home Market Sales Made By Huvis

Comment 2: Huvis' Fiber Composition Characteristic

Comment 3: Huvis' Duty Drawback

Comment 4: Huvis' Brokerage Expenses

Comment 5: Huvis' Major Inputs

Comment 6: Huvis' Affiliated Supplier's SG&A

Comment 7: Huvis' Parent Company G&A

Comment 8: Huvis' Per-Unit G&A Calculation

Comment 9: East Young's Comparison Market

Comment 10: East Young's G&A Ratio

[FR Doc. 03-26078 Filed 10-14-03; 8:45 am]

BILLING CODE 3510-DS-S